SMALL BUSINESS ADMINISTRATION

[Declaration of Disaster #3317; Amendment #3]

State of Texas

In accordance with a notice received from the Federal Emergency Management Agency, dated January 19, 2001, the above-numbered Declaration is hereby amended to include Lamar County as a disaster area due to damages caused by a severe winter ice storm beginning on December 12, 2000 and continuing through January 15, 2001.

Any counties contiguous to the above named primary county and not listed herein have been previously declared.

All other information remains the same, i.e., the deadline for filing applications for physical damage is March 9, 2001 and for economic injury the deadline is October 9, 2001.

(Catalog of Federal Domestic Assistance Program Nos. 59002 and 59008)

Dated: January 30, 2001.
Herbert L. Mitchell,
Associate Administrator for Disaster Assistance.

[FR Doc. 01-3401 Filed 2-8-01; 8:45 am]

BILLING CODE 8025-01-P